DEPARTMENT OF ENERGY

Federal Energy Regulatory Commission

Combined Notice of Filings

Take notice that the Commission has received the following Natural Gas Pipeline Rate and Refund Report filings:

Filings Instituting Proceedings

Docket Numbers: RP18-305-000.

Applicants: Equitrans, L.P.

Description: § 4(d) Rate Filing: Negotiated Capacity Release Agreements—1/1/2018 to be effective 1/1/2018.

Filed Date: 1/2/18.

Accession Number: 20180102-5124.

Comments Due: 5 p.m. ET 1/16/18.

Docket Numbers: RP18-306-000.

Applicants: Iroquois Gas Transmission System, L.P.

Description: Calculations supporting the Measurement Variance/Fuel Use Factors utilized during the period July 1, 2017 through December 31, 2017 of Iroquois Gas Transmission System, L.P. under RP18-306.

Filed Date: 1/2/18.

Accession Number: 20180102-5135.

Comments Due: 5 p.m. ET 1/16/18.

Docket Numbers: RP18-307-000.

Applicants: Texas Gas Transmission, LLC.

Description: § 4(d) Rate Filing: Cap Rel Neg Rate Agmts (RE Gas 35433, 34955 to BP 36840, 36841) to be effective 1/1/2018.

Filed Date: 1/2/18.

Accession Number: 20180102-5202.

Comments Due: 5 p.m. ET 1/16/18.

Docket Numbers: RP18-308-000.

Applicants: Gulf Crossing Pipeline Company LLC.

Description: § 4(d) Rate Filing: Negotiated Rate Agreement (Total 1932) to be effective 1/1/2018.

Filed Date: 1/2/18.

Accession Number: 20180102-5205.

Comments Due: 5 p.m. ET 1/16/18.

Docket Numbers: RP18-309-000.

Applicants: Gulf Crossing Pipeline Company LLC.

Description: § 4(d) Rate Filing: Amendment to Neg Rate Agmt (Total 167-2) to be effective 1/1/2018.

Filed Date: 1/2/18.

Accession Number: 20180102-5208.

Comments Due: 5 p.m. ET 1/16/18.

Docket Numbers: RP18-310-000.

Applicants: Gulf South Pipeline Company, LP.

Description: § 4(d) Rate Filing: Cap Rel Neg Rate Agmts (Atlanta 8438 to various eff 1-1-2018) to be effective 1/1/2018.

Filed Date: 1/2/18.

Accession Number: 20180102-5210.

Comments Due: 5 p.m. ET 1/16/18.

Docket Numbers: RP18-311-000.

Applicants: Iroquois Gas Transmission System, L.P.

Description: § 4(d) Rate Filing: 010218 Negotiated Rates—Mercuria Energy America, Inc. R-7540-02 to be effective 1/1/2018.

Filed Date: 1/2/18.

Accession Number: 20180102-5219.

Comments Due: 5 p.m. ET 1/16/18.

Docket Numbers: RP18-312-000.

Applicants: Gulf South Pipeline Company, LP.

Description: § 4(d) Rate Filing: Cap Rel Neg Rate Agmt (EOG 34687 to Texla 48933) to be effective 1/1/2018.

Filed Date: 1/2/18.

Accession Number: 20180102-5272.

Comments Due: 5 p.m. ET 1/16/18.

Docket Numbers: RP18-313-000.

Applicants: ETC Tiger Pipeline, LLC.

Description: § 4(d) Rate Filing: Fuel Filing Out of Cycle on 1-2-18 to be effective 2/1/2018.

Filed Date: 1/2/18.

Accession Number: 20180102-5345.

Comments Due: 5 p.m. ET 1/16/18.

Docket Numbers: RP18-314-000.

Applicants: Transcontinental Gas Pipe Line Company, LLC.

Description: Compliance filing Pro Forma—Priority of Service Provisions to be effective N/A.

Filed Date: 1/2/18.

Accession Number: 20180102-5359.

Comments Due: 5 p.m. ET 1/16/18.

Docket Numbers: RP18-315-000.

Applicants: Southern Star Central Gas Pipeline, Inc.

Description: Compliance filing Limited Tariff Waiver Due to Shippers' Mutual Capacity Release Mistake to be effective N/A.

Filed Date: 1/2/18.

Accession Number: 20180102-5394.

Comments Due: 5 p.m. ET 1/16/18.

Docket Numbers: PR18-16-000.

Applicants: UGI Central Penn Gas, Inc.

Description: Tariff filings per 284.123 (e)/.224. Termination of SOC to be effective 12/31/2017.

Filed Date: 12/29/17.

Accession Number: 201712295040.

Comments Due: 5 p.m. ET 1/19/18.

Docket Numbers: PR17-62-001.

Applicants: Trans-Pecos Pipeline, LLC.

Description: Tariff filings per 284.123 (e)/: Trans-Pecos Pipeline, LLC Amended SOC, Effective 12/23/2017.

Filed Date: 12/21/17.

Accession Number: 20171225135.

Comments Due: 5 p.m. ET 1/11/18.

Docket Numbers: PR17-63-001.

Applicants: Comanche Trail Pipeline, LLC.

Description: Tariff filings per 284.123 (e)/.224. Comanche Trail Pipeline, LLC Amended SOC, Effective 12/24/2017.

Filed Date: 12/21/17.

Accession Number: 201712215139.

Comments Due: 5 p.m. ET 1/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2018.
Nathaniel J. Davis, Sr.,
Deputy Secretary.

[FR Doc. 2018-00205 Filed 1-8-18; 8:45 am]

BILLING CODE 6717-01-P